Title 3—

The President

Proclamation 9332 of September 29, 2015

National Energy Action Month, 2015

By the President of the United States of America

A Proclamation

As Americans, we have a profound obligation to our children and our grandchildren—to help them live better lives than we did, and to ensure the choices we make do not limit the range of their dreams. The key to realizing a future in which our young people are not held back by choices of the past lies in the promise of a clean, sustainable America. During National Energy Action Month, we rededicate ourselves to bolstering energy efficiency, investing in innovative clean power, and working together to preserve our planet for generations to come.

My Administration remains committed to securing a stable, energy-independent future for our Nation—and while there is much work to be done, we have made significant advances in recent years. The United States is now the world's top producer of oil and natural gas, and we have set strict fuel efficiency standards for cars and light trucks, which are helping to wean us off our decades-old addiction to foreign oil. We are transitioning away from energy sources that contribute to climate change and threaten our health and safety—instead moving toward clean energy sources and ambitiously investing in alternatives like wind and solar. Taking our place as a major player in clean energy, we are harnessing over 3 times as much electricity from wind and 20 times as much from the sun as we did in 2008. We also remain dedicated to ensuring the safe and secure use of nuclear power, which generates over 60 percent of our carbon-free electricity. And we will continue working to improve our energy efficiency, double our energy productivity, and explore any and all ways of saving consumers money while reducing our total energy consumption. These efforts are vital to preserving our way of life and will help protect our environment and boost our Nation's economy.

As the world's second-largest emitter, America must recognize the role we play in contributing to our planet's changing climate and do all we can to make our air cleaner and safer for our children to breathe. Through our historic announcement with China last November, the United States agreed to double the pace at which we cut our emissions, while China committed for the first time to limiting theirs. In addition, this past summer, as part of our Clean Power Plan, I announced the first set of nationwide standards aimed at reducing the carbon emitted from our country's existing power plants. This plan will aid in our fight against climate change while strengthening our economy and helping fulfill our moral obligation to leave our kids and grandkids with a stable planet. And we are leading by example in Washington: I signed an Executive Order earlier this year that aims to cut the Federal Government's greenhouse gas emissions by 40 percent and increase its share of electricity consumption from renewable sources to 30 percent over the next 10 years.

Last year, the global economy grew while global emissions remained flat for the first time ever, and we have seen that our goals of addressing energy challenges and driving economic progress are mutually compatible. In that spirit, I will keep fighting to build a more sustainable society for all people by investing in clean sources of energy—including wind, which could provide as much as 35 percent of our electricity and supply renewable power in all 50 States by 2050—as well as solar, which has added jobs 10 times faster than any other sector of our economy. Additionally, I recently committed to getting 20 percent of our country's energy from renewables—beyond hydroelectric power—by 2030. My Administration will continue supporting technology, including new and advanced nuclear technology, that moves us closer to a brighter energy future, advances energy efficiency, and develops cleaner fuels.

Though we may never see the full realization of our ambition in our time, we can still have the satisfaction of knowing we did everything within our power to leave this world better than it was. During National Energy Action Month, let us recommit to forging the future that is within our capacity to reach by supporting clean, renewable, and independent means of energy production and by taking control of our own energy consumption. Everything we have is at stake—and we must fight for it.

NOW, THEREFORE, I, BARACK OBAMA, President of the United States of America, by virtue of the authority vested in me by the Constitution and the laws of the United States, do hereby proclaim October 2015 as National Energy Action Month. I call upon the citizens of the United States to recognize this month by working together to achieve greater energy security, a more robust economy, and a healthier environment for our children.

IN WITNESS WHEREOF, I have hereunto set my hand this twenty-ninth day of September, in the year of our Lord two thousand fifteen, and of the Independence of the United States of America the two hundred and fortieth.

[FR Doc. 2015-25350

Filed 10-1-15; 11:15 am]

Billing code 3295-F6-P